DEPARTMENT OF DEFENSE

Office of the Secretary

Board of Visitors Meeting

AGENCY: Acquisition University, Department of Defense.

ACTION: Board of Visitors Meeting.

SUMMARY: The next meeting of the Defense Acquisition University (DAU) Board of Visitors (BoV) will be held in the Executive Conference Room, Building 202, Ft. Belvoir, Virginia on Wednesday October 31, 2001 from 0900 until 1500. The purpose of this meeting is to report back to the BoV on continuing items of interest. This meeting is in lieu of the meeting originally scheduled for Wednesday September 19, 2001, which DAU postponed in light of events that took place September 11, 2001.

The meeting is open to the public; however, because of space limitations, allocation of seating will be made on a first-come, first served basis. Persons desiring to attend the meeting should call Mr. John Michel at 703-805-4575.

Dated: October 12, 2001.
L.M. Bynum,
Alternate, OSD Federal Register Liaison Officer, Department of Defense.

[FR Doc. 01-26238 Filed 10-17-01; 8:45 am]

BILLING CODE 5001-08-M